DEPARTMENT OF HEALTH AND HUMAN SERVICES

National Institutes of Health

National Center for Research Resources; Amended Notice of Meeting

Notice is hereby given of a change in the meeting of the National Center for Research Resources Special Emphasis Panel, March 26, 2008, 8 a.m. to March 26, 2008, 7 p.m., Hilton Washington/Rockville, Double Tree Name Changed, 1750 Rockville Pike, Rockville, MD, 20852, which was published in the Federal Register on February 1, 2008, 73 FRN 22, page 6190.

The meeting location is the Hilton Washington DC North/Gaithersburg, 620 Perry Parkway, Gaithersburg, Maryland 20877. The meeting is closed to the public.

Dated: March 11, 2008.
Jennifer Spaeth,
Director, Office of Federal Advisory Committee Policy.

[FR Doc. E8-5317 Filed 3-17-08; 8:45 am]

BILLING CODE 4140-01-M